DEPARTMENT OF THE INTERIOR

National Park Service

[NPS-WASO-NAGPRA-19932; PPWOCRADN0-PCU00RP14.R50000]

Notice of Inventory Completion for Native American Human Remains and Associated Funerary Objects From Bernalillo, Cibola, and Socorro Counties, NM in the Control of the Cibola National Forest, United States Forest Service, Albuquerque, NM; Correction

AGENCY: National Park Service, Interior.

ACTION: Notice; correction.

SUMMARY: The U.S. Department of Agriculture (USDA), Forest Service, Cibola National Forest has corrected an inventory of human remains and associated funerary objects, published in a Notice of Inventory Completion in the Federal Register on November 25, 1998. This notice corrects the minimum number of individuals and the number of associated funerary objects. Lineal descendants or representatives of any Indian tribe or Native Hawaiian organization not identified in this notice that wish to request transfer of control of these human remains and associated funerary objects should submit a written request to the USDA Forest Service, Southwestern Region. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the USDA Forest Service, Southwestern Region at the address in this notice by February 8, 2016.

ADDRESSES: Dr. Frank E. Wozniak, NAGPRA Coordinator, Southwestern Region, USDA Forest Service, 333 Broadway Boulevard Southeast, Albuquerque, NM 87102, telephone (505) 842-3238, email fwozniak@fs.fed.us.

SUPPLEMENTARY INFORMATION: Notice is here given in accordance with the Native American Graves Protection and Repatriation Act (NAGPRA), 25 U.S.C. 3003, of the correction of an inventory of human remains and associated funerary objects under the control of the USDA Forest Service, Cibola National Forest, Albuquerque, NM. The human remains and associated funerary objects were removed from Cibola County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects published in a Notice of Inventory Completion in the Federal Register (63 FR 65218-65219). A re-inventory of archeological collections from NA 21566, NA 23177, and NA 23178 by the professional staff of the Department of Anthropology at Northern Arizona University discovered additional human remains and associated funerary objects in the collections from NA 23177 and NA 23178. Transfer of control of the items in this correction notice has not occurred.

Correction

In the Federal Register (63 FR, 65218), paragraph 3 is corrected by substituting the following paragraph:

Between 1977 and 1979, human remains representing 32 individuals were recovered from sites NA 21566, NA 23177 and NA 23178 during legally authorized excavations conducted by J. Richard Ambler of Northern Arizona University. No known individuals were identified. The 68 associated funerary objects include ceramic vessels, pottery sherds and chipped stone.

In the Federal Register (63 FR, 65219) paragraph 2, sentences 1 and 2 are corrected by substituting the following sentences:

Based on the above mentioned information, officials of the USDA Forest Service have determined that, pursuant to 43 CFR 10.2(d)(1), the human remains listed above represent the physical remains of 32 individuals of Native American ancestry. Officials of the USDA Forest Service have also determined that, pursuant to 43 CFR 10.2(d)(2), the 68 objects listed above are reasonably believed to have been placed with or near individual human remains at the time of death or later as part of a death rite or ritual.

Additional Requestors and Disposition

Lineal descendants or representatives of any Indian tribe or Native Hawaiian organization not identified in this notice that wish to request transfer of control of these human remains and associated funerary objects should submit a written request with information in support of the request to: Dr. Frank E. Wozniak, NAGPRA Coordinator, Southwestern Region, USDA Forest Service, 333 Broadway Boulevard Southeast, Albuquerque, NM 87102, telephone (505) 842-3238, email fwozniak@fs.fed.us, by February 8, 2016. After that date, if no additional requestors have come forward, transfer of control of the human remains and associated funerary objects to the Pueblo of Acoma, New Mexico; the Hopi Tribe, Arizona; and the Pueblo of Zuni, New Mexico may proceed.

The Cibola National Forest is responsible for notifying the Pueblo of Acoma, New Mexico; the Hopi Tribe, Arizona; and the Pueblo of Zuni, New Mexico that this notice has been published.

Dated: December 8, 2015.
Amberleigh Malone,
Acting Manager, National NAGPRA Program.

[FR Doc. 2016-00053 Filed 1-6-16; 8:45 am]

BILLING CODE 4312-50-P